DEPARTMENT OF THE INTERIOR

Bureau of Indian Affairs

Proclaiming Certain Lands as Reservation for the Jicarilla Apache Indian Tribe of New Mexico

AGENCY: Bureau of Indian Affairs, Interior.

ACTION: Notice of Reservation proclamation.

SUMMARY: The Assistant Secretary—Indian Affairs proclaimed approximately 14,138.983 acres, more or less, as an addition to the reservation of the Jicarilla Apache Indian Tribe of New Mexico on March 21, 2000. This notice is published in the exercise of authority delegated by the Secretary of the Interior to the Assistant Secretary—Indian Affairs by 209 DM 8.1.

FOR FURTHER INFORMATION CONTACT: Larry E. Scrivner, Bureau of Indian Affairs, Deputy Director, Office of Trust Responsibilities, MS-4510/MIB/Code 220, 1849 C Street, N.W., Washington, D.C. 20240, telephone (202) 208-7737.

SUPPLEMENTARY INFORMATION: A proclamation was issued according to the Act of June 18, 1934 (48 Stat. 986; 25 U.S.C. 467), for the tracts of land described below. The land was proclaimed to be an addition to and part of the reservation of the Jicarilla Apache Indian Tribe of New Mexico for the exclusive use of Indians on that reservation who are entitled to reside at the reservation by enrollment or tribal membership.

Reservation of the Jicarilla Apache Indian Tribe of Indians

Arriba County, New Mexico

All of the following described tracts, pieces, or parcels of land comprising 14,138.983 acres of land, more or less, situated in Rio Arriba County, New Mexico, to wit:

Tract I—14,117.08 acres, more or less

Beginning at a northeasterly corner of the herein described tract of land, a stone marked “BNE” on the west side of the Chama River, from whence N.M.S.E.O. brass cap stamped “Escondida 1973” and having New Mexico State Plane Coordinates, Central Zone, of x = 407,662.02′ y = 2,116,662.34′, bears S. 18° 14′ 50″ E., 7,645.65 feet; thence N. 89° 56′ 25″ E., 240.01 feet to the centerline of the Chama River and Point #1, this point is also common with an intersection between Points 63 and 64 on the Tyree survey done on 4/3/72 for Rio Chama Estate; thence S. 55° 24′ 45″ W. 377.69 feet (S. 54° 59′ 45″ W., 377.69 feet) along the centerline of the Chama River to Point #2, this point being common to Point #64 on the Tyree survey (This survey follows the Tyree survey from Point #1 to Point #36); thence following the centerline of the Chama River S. 27° 37′ 30″ W. 153.93 feet (S. 27° 12′ 30″ W., 153.93 feet) to Point #3; thence S. 15° 27′ 20″ E., 258.21 feet (S. 15° 52′ 20″ E., 258.21 feet) to Point #4; thence S.10° 04′ 00″ W., 338.53 feet (S. 09° 39′ 00″ W., 338.53 feet) to Point #5; thence S. 25° 34′ 35″ W., 289.37 feet (S. 25° 09′ 35″ W., 289.37 feet) to Point #6; thence S. 06° 53′ 00″ W., 122.21 feet (S. 06° 28′ 00″ W., 122.21 feet) to Point #7; thence S. 23° 38′ 45″ E., 193.39 feet (S. 24° 03′ 45″ E., 193.38 feet) to Point #8; thence S. 14° 37′ 25″ E., 504.54 feet (S. 15° 02′ 25″ E., 504.54 feet) to Point #9; thence S. 00° 20′ 05″ W., 111.57 feet (S. 00° 04′ 55″ E., 111.57 feet) to Point #10; thence S. 16° 43′ 55″ W., 184.67 feet (S. 16° 18′ 55″ W., 184.67 feet) to Point #11; thence S. 32° 19′ 35″ W., 172.40 feet (S. 31° 54′ 35″ W., 172.40 feet) to Point #12; thence S. 19° 36′ 45″ W., 138.92 feet (S.19° 11′ 45″ W., 138.92 feet) to Point #13; thence S.15° 43′ 55″ E., 142.65 feet (S. 16° 08′ 55″ E., 142.65 feet) to Point #14; thence S. 42° 38′ 25″ E., 192.23 feet (S. 43° 03′ 25″ E., 192.23 feet) to Point #15; thence S. 28° 21′ 40″ E., 285.93 feet (S. 28° 46′ 40″ E., 285.93 feet) to Point #16; thence S. 21° 10′ 30″ E., 336.34 feet) (S. 21° 35′ 30″ E., 336.34 feet) to Point #17; thence S. 01° 36′ 30″ W., 461.23 feet (S. 01° 11′ 30″ W., 461.23 feet) to Point #18; thence S. 01° 59′ 15″ W., 205.16 feet (S. 01° 34′ 15″ W., 205.16 feet) to Point #19; thence S. 24° 06′ 15″ W., 479.80 feet (S. 23° 41′ 15″ W., 469.80 feet) to Point #20; thence S. 00° 49′ 05″ W., 117.99 feet (S. 10° 24′ 05″ W., 117.99 feet) to Point #21; thence S. 15° 09′ 10″ E., 123.03 feet (S. 15° 34′ 10″ E., 123.03 feet) to Point #22; thence S. 40° 39′ 40″ E., 148.02 feet (S. 41° 04′ 40″ E., 148.02 feet) to Point #23; thence N. 77° 26′ 05″ E., 93.50 feet (N. 77° 01′ 05″ E., 93.50 feet) to Point #24; thence S. 77° 39′ 05″ E., 88.39 feet (S. 78° 04′ 05″ E., 72.96 feet) to Point #25; thence S. 00° 27′ 10″ E., 204.66 feet (S. 00° 52′ 10″ E., 204.66 feet) to Point #26; thence S. 21° 53′ 10″ W.,145.42 feet (S. 21° 28′ 10″ W., 145.42 feet) to Point #27; thence S. 03° 08′ 20″ W., 226.69 feet (S. 02° 43′ 20″ W., 226.69 feet) to Point #28; thence S. 34° 25′ 15″ W., 319.34 feet (S. 34° 00′ 15″ W., 319.34 feet) to Point #29; thence S. 45° 34′ 00″ W., 326.96 feet (S. 45° 09′ 00″ W., 326.96 feet) to Point #30; thence S. 33° 14′ 20″ W., 222.40 feet (S.32° 49′ 20″ W., 222.40 feet) to Point #31; thence S.14° 20′ 35″ W., 140.16 feet (S. 13° 55′ 35″ W., 140.16 feet) to Point #32; thence S. 10° 55′ 05″ E., 312.95 feet (S. 11° 20′ 05″ E., 312.95 feet) to Point #33; thence S. 32° 40, 00″ W., 230.31 feet (S. 32° 15′ 00″ W., 230.31 feet) to Point #34; thence S. 43° 23′ 50″ W., 231.85 feet (S.42° 58′ 50″ W., 231.85 feet) to Point #35; thence S. 23° 24, 05″ W., 178.78 feet (S. 22° 59′ 05″ W., 178.78 feet) to Point #36 in the middle of the Chama River, this point being common to Point #99 on the Tyree survey and also common to the northwest corner of the Valdez survey done in November 1981 for Leo Smith; thence following the centerline of the Chama River which is the common boundary line between the Willow Creek Ranch and the grantor′s tract (This survey follows the Valdez survey of the centerline of the river from Point #36 to Point #40); thence S. 19° 25′ 27″ W., 307.13 feet to Point #37 (S. 19° 27′ 27″ W., 307.13 feet); thence S. 05° 21′ 22″ W., 532.35 feet to Point #38 (S. 05° 23′ 22″ W., 532.35 feet); thence S. 71° 17′ 59″ W.. 781.09 feet to Point #39 (S. 71° 19′ 59″ W., 781.09 feet); thence S. 22° 41′ 40″ W., 314.14 feet to Point #40 (S. 24° 16′ 58″ W., 318.28 feet) this point being the southwest corner of the Smith property at the centerline of the Chama River; thence following the south boundary of the Smith (Bren) property N. 88° 37′ 38″ E., 130.11 feet to a set ½″ rebar with cap at Point #111, a fence corner; thence S. 09° 16′ 46″ W., 252.69 feet to a found rebar at Point #110; thence S. 29° 47′ 59″ W., 489.91 feet to a set ½″ rebar at Point #109; thence S. 79° 29′ 04″ W., 219.61 feet to a found rebar with AGV cap at Point #108; thence S. 36° 19′ 32″ W., 115.97 feet to a found rebar with AGV cap at Point #107; thence N. 57° 47′ 39″ W. crossing the Chama River a distance of 217.15 feet to a found rebar at Point #52; thence S. 59° 38′ 51″ W. 437.01 feet to a found rebar at Point #53; thence S. 17° 01′ 47″ W., 166.31 feet to a found rebar with AGV cap at Point #84; thence S. 01° 45′ 46″ E., 111.60 feet to a found rebar with AGV cap at Point #85; thence S. 08° 22′ 24″ W., 47.35 feet to a found rebar with AGV cap at Point #86; thence S. 17° 13′ 50″ W., 213.91 feet to Point #87; thence S. 03° 13′ 21″ E., 625.01 feet to Point #88; thence S. 04°14′ 41″ W., 95.29 feet to Point #89; thence S. 02° 05′ 10″ W., 728.28 feet to Point #90; thence S. 08° 26′ 10″ W., 504.50 feet to Point #91; thence S. 04° 54′ 36″ W., 315.30 feet to Point #92; thence S. 12° 29′ 35″ E., 199.88 feet to a found rebar with AGV cap at Point #93; thence S. 03° 17′ 08″ W., 397.02 feet to a found rebar with AGV cap at Point #94; thence S. 19° 57′ 53″ E., 1139.15 feet to a found rebar with AGV cap at Point #95; thence S. 24° 26′ 26″ E., 1285.76 feet to a found rebar with AGV cap at Point #96; thence S. 41° 55′ 00″ W., 628.05 feet to Point #65, a ½″ iron pipe and the northwest corner of the Max Olivas tract at the top of the hill; thence following the top of the hill S. 34° 47′ 13″ E., 1024.10 feet to Point #66, a ½″ iron pipe; thence S. 48° 05′07″ E., 1918.11 feet to Point #67, a ½″ rebar; thence S. 43° 33′ 54″ E., 1261.04 feet to Point #68, a ⅝″ rebar set an angle point in fence; thence S. 36° 45′ 40″ E., 1245.58 feet to Point #69, a 1″ solid rod and being the southwest corner Blackmar Tract and the northwest corner of the Martinez tract; thence S. 36° 28′ 06″ W., 1697.90 feet to a ⅝″ rebar being a southwest corner; thence N. 37° 57′ 57″ W., 10,670.86 feet along the Theis fence line to a stone marked “TDB11,” whence a blazed 24″ cedar bears S. 74° W., 115 feet; thence S. 89° 45′. 30″ W., 21,223.93 feet to a 1½″ iron pipe in a mound of limestone, whence a 30″ blazed pine bears S. 68° W., 100 feet; thence N. 48° 33′ 13″ W., 1410.94 feet to a 2″ perforated pipe and “TDB #4,” whence an 18″ blazed pine bears N. 42° W., 116 feet; thence S. 89° 47′ 13″ W., 7574.33 feet to a 2″ iron pipe and “TDB #3,” whence a double pine blazed bears N. 64° E., 18 feet; thence N . 48° 30′ 28″ W., 2242.57 feet to an angle point in the fence and a set ⅝″ rebar, “TDB #2,” whence a blazed 20″ Pine bears S. 71° W., 93 feet; thence N. 69° 14′ 00″ W., 2444.57 feet to a 2″ flattened pipe and “TDB #1,” whence a 20″ blazed pine tree bears N. 43° W., 122 feet; thence N. 70° 39′ 31″ W., 1995.81 feet to a 2″ flattened pipe and the southwest corner whence a spring bears N. 42° E., 45 feet, this corner is common to Theis and the New Mexico State Game and Fish property; thence N. 00° 00′ 21″ W., 15,572.90 feet along the New Mexico State Game and Fish line to a 2″ iron pipe and the northwest corner; thence S. 89° 58′43″ E., 17,856.35 feet to a northeast corner; thence S. 00° 04′ 57″ W., 4619.33 feet to a stone marked “SWH” thence S. 89° 54′ 38″ E., 29,955.52 feet to a stone marked “NWB”; thence S. 00° 03′ 30″ W., 2401.41 feet to a stone marked with a 6′ fence post; thence N. 89° 56′ 21″ E., 21,233.65 feet to a stone marked “BNE,” the point of beginning, containing 14,558.88 acres within the boundary traverse, less 441.80 acres taken in the Azotea Willow Creek tracts by the U.S. Government, giving a net acreage of 14,117.08 acres, more or less.

Tract 2—21.903 acres, more or less

A tract of land in the Tierra Amarilla Land Grant, Rio Arriba County, New Mexico, being a part of Section 17, 8 and 9, Township 1 South, Range 2 East, of the Martin & Borders Subdivision as filed in the Rio Arriba County Courthouse, also lying in the projected reappraisal area of Township 31 North, Range 2 East, and Range 3 East, N.M.P.M.

This is the “Willow Creek Ranch Access Road” parcel and is more particularly described as follows:

Beginning at the Northeast corner, a point on the southerly right-of-way of U.S. Highway 84 whence USC&GS Brass Cap “Willow” bears S. 84-32-19E. a distance of 1156.09 feet; Thence southerly along the easterly boundary of the herein described access road as follows:

S. 01-33-16E. a distance of 1034.04 feet to a point;

S. 23-55-59W. a distance of 459.36 feet to a point;

S. 26-53-59W. a distance of 967.00 feet to a point;

S. 78-37-35W. a distance of 705.10 feet to a point;

S. 63-04-56W. a distance of 409.58 feet to a point;

S. 43-07-59W. a distance of 505.17 feet to a point;

S. 38-58-07W. a distance of 384.05 feet to a point;

S. 35-12-07W. a distance of 24.80 ­ feet to a point;

S. 27-18-41W. a distance of 171.98 feet to a point;

S. 25-39-37W. a distance of 291.94 feet to a point;

S. 03-08-10W. a distance of 251.89 feet to a point;

S. 04-48-49E. a distance of 373.17 feet to a point;

S. 20-08-59W. a distance of 521.24 feet to a point;

S. 49-07-04W. a distance of 640.02 feet to a point;

S. 49-08-17W. a distance of 166.30 feet to a point;

S. 26-33-17E. a distance of 327.70 feet to a point;

S. 04-02-17E. a distance of 483.09 feet to-the southeast corner;

Thence N. 89-33-10W. a distance of 100.00 feet to the southeast corner;

Thence northerly along the westerly boundary of said access road as follows:

N. 04-02-17E. a distance of 714.20 feet to a point;

N. 48-17-22E. a distance of 933.48 feet to a point;

N. 32-06-23E. a distance of 301.04 feet to a point;

N. 00-46-08W. a distance of 745.07 feet to a point;

N. 24-41-14E. a distance of 682.37 feet to a point;

N. 42-23-22E. a distance of 1164.40 feet to a point;

N. 83-15-50E. a distance of 639.41 feet to a point;

N. 53-29-20E. a distance of 479.01 feet to a point;

N. 23-36-47E. a distance of 998.61 feet to a point;

N. 08-52-50E. a distance of 161.94 feet to a point;

N. 03-29-38E. a distance of 886.85 to the northwest corner, a point on the southerly right-of-way of said U.S. Highway 84;

Thence following said southerly right-of-way along a curve to the left having a delta of 03-01-12 and radius of 1972.45 feet a distance of 103.97 feet to the point and place of beginning. This parcel contains 21.903 acres, more or less.

This proclamation does not affect title to the land described above, nor does it affect any valid existing easements for public roads and highways, for public utilities and for railroads and pipelines and any other rights-of-way or reservations of record.

Dated: March 21, 2000.
Kevin Gover,
Assistant Secretary—Indian Affairs.

[FR Doc. 00-7658 Filed 3-28-00; 8:45 am]

BILLING CODE 4310-02-P